DEPARTMENT OF DEFENSE

Department of the Army Corps of Engineers

Intent To Prepare a Draft Environmental Impact Statement (DEIS) for the Proposed Mining Activities Associated With Hobet Mining, Inc.'s (Hobet) Spruce No. 1 Surface Mine Located Near Blair, in Logan County, West Virginia

AGENCY: U.S. Army Corps of Engineers, DoD.

ACTION: Notice of Intent.

SUMMARY: Pursuant to Section 404 of the Clean Water Act, the Huntington District, U.S. Army Corps of Engineers (Corps), in cooperation with several Federal and State cooperating agencies will prepare (in accordance with Section 102(2)(c) of the National Environmental Policy Act) an Environmental Impact Statement (EIS). The EIS will evaluate potentially significant impacts to the natural, physical, and human environment as a result of the proposed mining activities associated with Hobet's Spruce No. 1 Surface Mine.

ADDRESSES: Send written comments and suggestions concerning this proposal to Teresa Hughes, U.S. Army Corps of Engineers, Huntington District, Attn: Regulatory Branch-OR-FS, 502 8th Street, Huntington, West Virginia, 25701. Telephone (304) 529-5710 or electronic mail at Teresa.D.Huges@Lrh01.usace.army.mil. Requests to be placed on the mailing list should also be sent to this address.

FOR FURTHER INFORMATION CONTACT: Michael D. Gheen, Chief of Regulatory Branch, Attn: Regulatory Branch-OR-F, U.S. Army Corps of Engineers, Huntington district, 502 8th Street, Huntington, West Virginia 25701, Telephone (304) 529-5487 or electronic mail at Michael.D.Gheen@ Lrh01.usace.army.mil

SUPPLEMENTARY INFORMATION: The Corps invites comments and suggestions regarding potential effects of the proposed action, including the regulatory issues and significant environmental effects to be addressed in the EIS, to promote open communication and better decision making. All persons and organizations that have an interest in the proposed project, including affected Federal, state and local agencies, affected Indian tribes, and other interested private organizations and parties, are urged to participate in this NEPA environmental analysis process. Written comments from the public regarding the environmental and regulatory issues and alternatives to be addressed in the EIS will be accepted. The Corps will hold public meetings to receive public input, either verbal or written, on relevant environmental and regulatory issues that should be addressed in the EIS. The locations and starting times of the public meetings will be announced.

In accordance with 40 CFR 1506.5(c) and 33 CFR Part 325, Appendix B, (8)(f)(2), it is our understanding that Hobet will secure the services of a contractor for the preparation of an EIS. Hobet solicited bids for prospective contractors. Hobet will employ Michael Baker, Jr., Inc. to prepare the EIS for the proposed mining activities associated with the Spruce No. 1 Surface Mine.

The Corps and its cooperating agencies implement Federal and State laws with which mining operations and associated discharges to waters of the United States must comply. The cooperating agencies involved in this NEPA process are the Office of Surface Mining (OSM), U.S. Environmental Protection Agency (EPA), U.S. Fish and Wildlife Service (FWS), and the West Virginia Division of Environmental Protection (WVDEP). Each of the cooperating Federal and State agencies will provide their expertise in compiling information and evaluating potential impacts of the proposed project. OSM is responsible for national administration of the Surface Mining Control and Reclamation Act (SMCRA); it has delegated the authority for the SMCRA programs for surface mining operations in West Virginia to the State of West Virginia DEP. Discharges of fill material into waters of the United States are regulated under Section 404 of the Clean Water Act, administered by the Corps and applicable 404 regulations issued by the Corps and EPA. Other discharges to waters of the United States are subject Section 402 of the Clean Water Act, administered nationally by the EPA with authority for the program delegated to the State of West Virginia (DEP). Coordination with the FWS will be accomplished in compliance with the Endangered Species Act (ESA) and the Fish and Wildlife Coordination Act (FWCA). Coordination required by other laws and regulations will also be conducted.

This EIS will evaluate potentially significant environmental impacts associated with Hobet's proposed Spruce No. 1 Surface mine on water quality, streams, aquatic and terrestrial habitat, habitat fragmentation, the hydrological balance, and other individual and cumulative effects. Cumulative environmental impacts may include the efficacy of stream restoration; the viability of reclaimed streams compared to natural waters; the impact of valley fills on aquatic life, wildlife and nearby residents; biological and habitat analyses; and practicable alternatives for in-stream placement of excess overburden; measures to minimize stream filling to the maximum extent practicable; and the effectiveness of mitigation and reclamation measures.

The activity is to remove overburden to expose coal seams in order conduct surface mining activities on the Spruce No. 1 mining area. The proposed action is to issue a 404 permit to authorize the discharge of overburden into the streams in the surrounding project area.

The scoping process (40 CFR 1501.7 and 33 CFR Part 325, Appendix B) will consist of determining the extent to which potentially significant issues shall be analyzed. It shall define the study area based on the resources potentially affected, opportunities, and geographic areas likely affected by alternative plans. It shall identify current and potential future planning related activities to and not part of the study under consideration. The process shall identity and review consultation requirements, so that cooperating agencies (as defined in 40 CFR 15 CFR 1508.12) may prepare required analyses and studies concurrently with the study under consideration. Coordination of such agencies will be in accordance with Executive Order 12372 and 33 CFR 384. The process shall also indicate tentative planning and a decision making schedule.

Comments received in response to this solicitation, including names and address of those who comment, will be considered part of the public record on this proposed action and will be available for public inspection. Comments submitted anonymously will be accepted and considered.

To assist the Corps in identifying and considering issues and concerns on the proposed action, comments should be as specific as possible. These comments will assist in early scoping and later development of alternatives for the DEIS.

Michael D. Gheen,
Chief, Regulatory Branch.

[FR Doc. 00-2546 Filed 2-3-00; 8:45 am]

BILLING CODE 3710-GM-M